DEPARTMENT OF ENERGY

Federal Energy Regulatory Commission

[Docket No. IC03-583-001, FERC-583]

Commission Information Collection Activities, Proposed Collection; Comment Request; Submitted for OMB Review

May 20, 2003.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of November 18, 2002 (67 FR 69514-15) and has made this notation in its submission to OMB.

DATES: Comments on the collection of information are due by June 23, 2003.

ADDRESSES: Address comments on the collection of information to the Office of Management and Budget, Office of Information and Regulatory Affairs, Attention: Federal Energy Regulatory Commission Desk Officer, 725 17th Street, NW., Washington, DC 20503. The Desk Officer may be reached by telephone at 202-395-7856. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE. Washington, DC 20426 and should refer to Docket No. IC03-583-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. FOR FURTHER INFORMATION CONTACT: Michael Miller may be reached by telephone at (202)502-8415, by fax at (202)273-0873, and by e-mail at michael.miller@ferc.gov.

SUPPLEMENTARY INFORMATION:

Description

The information collection submitted for OMB review contains the following:

1. Collection of Information: FERC-583 “Annual Kilowatt Generating Report”

2. Sponsor: Federal Energy Regulatory Commission

3. Control No.: 1902-0136.

The Commission is now requesting that OMB approve a three-year extension of the expiration date, with no changes to the existing collection. The information filed with the Commission is mandatory.

4. Necessity of the Collection of Information: Submission of the information is necessary to enable the Commission to carry out its responsibilities in implementing the statutory provisions of section 10(e) of the Federal Power Act (FPA), and section 3401 of the Omnibus Budget Reconciliation Act of 1986 (OBRA), 42 U.S.C. 7178. Section 10(e) authorizes the Commission to collect annual charges from hydroelectric licenses for among other things, the cost of administering part I of the FPA and for administering the costs of administering United States dams. Section 3401 of OBRA authorizes the Commission to “assess and collect fees and annual charges in any fiscal year in amounts equal to all the costs incurred . . . in that fiscal year”. The annual charges must be computed based on methods that the Commission has determined to be fair equitable. The annual charges do not enable the Commission to collect amounts in excess of expenses, but merely serve as a vehicle to reimburse the United States Treasury for the Commission's expenses. (42 U.S.C. 7178(f))

The Commission's staff use the information to determine the amounts of annual charges to be assessed licensees for reimbursable government administrative costs and for the use of government dams. The Commission implements these filing requirements in the Code of Federal Regulations (CFR) under 18 CFR part 11.

5. Respondent Description: The respondent universe currently comprises 660 companies (on average) subject to the Commission's jurisdiction.

6. Estimated Burden: 1,320 total hours, 660 respondents(average), 1 response per respondent, 2 hours per response (average).

7. Estimated Cost Burden to respondents: 1,320 hours/2080 hours per years x $117,041 per year = $74,276. The cost per respondent is equal to $113.00.

Statutory Authority: Section 10 of the Federal Power Act, 16 U.S.C. 803(3) and section 3401 of the Omnibus Budget Reconciliation Act of 1986, 42 U.S.C.7178.

Magalie R. Salas,
Secretary.

[FR Doc. 03-13209 Filed 5-27-03; 8:45 am]

BILLING CODE 6717-01-P